DEPARTMENT OF HEALTH AND HUMAN SERVICES

Health Resources and Services Administration

Maternal Health Town Hall Listening Session; Notice of Meeting

Name: Maternal Health Town Hall Listening Session.

Date and Time: August 27, 2013, 2:00 p.m.-3:30 p.m. (EST).

Place: Virtual via Webinar.

Status: The meeting is open to the public. The meeting will be hosted virtually through webinar and by phone. Participants will have an opportunity to interact with presenters via the chat function in the public comment section of the webinar system. In addition, there will be up to 100 phone lines available to individuals who choose to participate by phone. The phone lines will be made available on a first-come, first-served basis. To register for this meeting please go to: http://learning.mchb.hrsa.gov/LiveWebcastDetail.asp?leid=333. Registrations will be accepted through 5:00 p.m. EST on August 19, 2013. Call information for this meeting will be provided upon registration.

Purpose: The purpose of the meeting is to share and discuss proposed strategies and to solicit ideas in support of the National Maternal Health Initiative. The Town Hall Listening Session will serve as a platform to engage and obtain feedback from the public on HRSA's strategic thinking around a national strategy to reduce maternal morbidity and mortality, and improve the quality and safety of maternity care in the United States.

The desired outcomes of the meeting are:

I. To share with the public the Health Resources and Services Administration, Maternal and Child Health Bureau's (HRSA/MCHB): (1) Vision for promoting maternal health in the United States; (2) strategic direction for the National Maternal Health Initiative including mission, goals and objectives; and (3) identified priority areas to focus efforts to improve maternal health;

II. Enhance, guide, and strengthen HRSA's strategic thinking related to maternal health using input from maternal health experts, representatives of professional organizations, and the public at large.

Agenda: Topics that will be discussed include the following: Maternal health in the United States; current efforts to improve maternal health; gaps in the field; opportunities for collaborative efforts; and an overview of the National Maternal Health Initiative. Proposed agenda items are subject to change as priorities dictate.

Time will be provided for public comments. Each public comment is limited to five minutes. Registered attendees for this meeting are encouraged to submit comments prior to the meeting. Comments are to be submitted in writing no later than 5:00 p.m. ET on August 19, 2013.

For Further Information Contact: Individuals who are submitting public comments or who have questions regarding the meeting should contact Keisher Highsmith, Dr.P.H., Director of Special Initiatives and Program Planning and Evaluation, Health Resources and Services Administration, Maternal and Child Health Bureau, telephone: (301) 443-0543; or email: khighsmith@hrsa.gov.

Dated: June 14, 2013.
Bahar Niakan,
Director, Division of Policy and Information Coordination.

[FR Doc. 2013-14837 Filed 6-20-13; 8:45 am]

BILLING CODE 4165-15-P